DEPARTMENT OF LABOR

Employment and Training Administration

[TA-W-38,077]

Paris Accessories, Inc. Belt Division, Allentown, Pennsylvania; Dismissal of Application for Reconsideration

Pursuant to 29 CFR 90.18(C) an application for administrative reconsideration was filed with the Director of the Division of Trade Adjustment Assistance for workers at Paris Accessories, Inc., Belt Division, Allentown, Pennsylvania. The application contained no new substantial information which would bear importantly on the Department's determination. Therefore, dismissal of the application was issued.

TA-W-38,077; Paris Accessories, Inc., Belt Division Allentown, Pennsylvania (December 12, 2000)

Signed at Washington, DC this 13th day of December, 2000.
Edward A. Tomchick,
Director, Division of Trade Adjustment Assistance.

[FR Doc. 00-33073 Filed 12-27-00; 8:45 am]

BILLING CODE 4510-30-M